DEPARTMENT OF LABOR

Mine Safety and Health Administration

30 CFR Part 75

RIN 1219-AB65

Proximity Detection Systems for Continuous Mining Machines in Underground Coal Mines

AGENCY: Mine Safety and Health Administration, Labor.

ACTION: Proposed rule; extension of comment period.

SUMMARY: In response to requests from interested parties, the Mine Safety and Health Administration (MSHA) is extending the comment period on the proposed rule addressing Proximity Detection Systems for Continuous Mining Machines in Underground Coal Mines. This extension gives commenters additional time to comment on the proposed rule. The proposal was published on August 31, 2011.

DATES: All comments must be received or postmarked by midnight Eastern Standard Time on November 28, 2011.

ADDRESSES: Comments must be identified with “RIN 1219-AB65” and may be sent by any of the following methods:

(1) Federal e-Rulemaking Portal: http://www.regulations.gov. Follow the instructions for submitting comments.

(2) Facsimile: (202) 693-9441. Include “RIN 1219-AB65” in the subject line of the message.

(3) Regular Mail: MSHA, Office of Standards, Regulations, and Variances, 1100 Wilson Boulevard, Room 2350, Arlington, Virginia 22209-3939.

(4) Mail or Hand Delivery: MSHA, Office of Standards, Regulations, and Variances, 1100 Wilson Boulevard, Room 2350, Arlington, Virginia. Sign in at the receptionist's desk on the 21st floor.

MSHA will post all comments without change, including any personal information provided. Access comments electronically on http://www.regulations.gov and on MSHA's Web site at http://www.msha.gov/currentcomments.asp. Review comments in person at the Office of Standards, Regulations, and Variances, 1100 Wilson Boulevard, Room 2350, Arlington, Virginia. Sign in at the receptionist's desk on the 21st floor.

MSHA maintains a list that enables subscribers to receive email notification when the Agency publishes rulemaking documents in the Federal Register. To subscribe, go to http://www.msha.gov/subscriptions/subscribe.aspx.

FOR FURTHER INFORMATION CONTACT: Roslyn B. Fontaine, Acting Director, Office of Standards, Regulations and Variances, MSHA, at Fontaine.Roslyn@dol.gov (Email), (202) 693-9440 (Voice), or (202) 693-9441 (Fax).

SUPPLEMENTARY INFORMATION:

Extension of Comment Period

On August 31, 2011 (76 FR 54163), MSHA published a proposed rule, Proximity Detection Systems for Continuous Mining Machines in Underground Coal Mines. MSHA conducted hearings on October 18, October 20, October 25, and October 27 of 2011. In response to commenters, MSHA is providing additional time for interested parties to comment on the proposed rule. MSHA is extending the comment period from November 14, 2011 to November 28, 2011. All comments and supporting documentation must be received or postmarked by November 28, 2011.

Dated: November 7, 2011.
Joseph A. Main,
Assistant Secretary of Labor for Mine Safety and Health.

[FR Doc. 2011-29128 Filed 11-9-11; 8:45 am]

BILLING CODE 4510-43-P